DEPARTMENT OF EDUCATION

Brown v. Board of Education 50th Anniversary Commission; Meeting

AGENCY: Brown v. Board of Education 50th Anniversary Commission, Department of Education (ED).

ACTION: Notice of meeting.

SUMMARY: This notice provides the schedule of a forthcoming meeting of the Brown v. Board of Education 50th Anniversary Commission. This notice also describes the functions of the commission. This document is intended to notify the general public of their opportunity to attend.

DATE AND TIME: March 16, 2004, at 3 p.m.

ADDRESSES: Kansas Union, Kansas University, 1301 Jayhawk Blvd., Big. 12 Room, Lawrence, KS 66045-7548.

FOR FURTHER INFORMATION CONTACT: Mary McPhail, 330 C Street SW., Washington, DC 20202, (202) 205-9529.

SUPPLEMENTARY INFORMATION: The Brown v. Board of Education 50th Anniversary Commission is established under Pub. L. 107-41 to commemorate the 50th anniversary of the Brown decision. The Commission, in conjunction with the U.S. Department of Education, is responsible for planning and coordinating public education activities and initiatives. Also, the Commission, in cooperation with the Brown Foundation for Educational Equity, Excellence, and Research in Topeka, Kansas, and such other public or private entities as the Commission deems appropriate, is responsible for encouraging, planning, developing and coordinating observances of the anniversary of the Brown decision. The meeting of the Commission is open to the public. Individuals who will need accommodations for a disability in order to attend the meeting (i.e. interpreting services, assistive listening devices, materials in alternative format) should notify Mary McPhail at (202) 205-9529 by no later than March 12, 2004. We will attempt to meet requests after that date, but cannot guarantee availability.

Dated: March 4, 2004.
Kenneth L. Marcus,
Senior Counselor for Civil Rights.

[FR Doc. 04-5301 Filed 3-9-04; 8:45 am]

BILLING CODE 4000-01-M